DEPARTMENT OF ENERGY

Federal Energy Regulatory Commission

Combined Notice of Filings

Take notice that the Commission has received the following Natural Gas Pipeline Rate and Refund Report filings:

Filings Instituting Proceedings

Docket Numbers: RP12-730-000.

Applicants: Algonquin Gas Transmission, LLC.

Description: Filed Agreements Tariff Cleanup—Norwich to be effective 6/11/2012.

Filed Date: 5/11/12.

Accession Number: 20120511-5009.

Comments Due: 5 p.m. ET 5/23/12.

Docket Numbers: RP12-731-000.

Applicants: Transcontinental Gas Pipe Line Company, LLC.

Description: New Rate Schedule FTP to be effective 6/11/2012.

Filed Date: 5/11/12.

Accession Number: 20120511-5058.

Comments Due: 5 p.m. ET 5/23/12.

Any person desiring to intervene or protest in any of the above proceedings must file in accordance with Rules 211 and 214 of the Commission's Regulations (18 CFR 385.211 and 385.214) on or before 5 p.m. Eastern timeon the specified comment date. Protests may be considered, but intervention is necessary to become a party to the proceeding.

Filings in Existing Proceedings

Docket Numbers: RP12-313-001

Applicants: Sea Robin Pipeline Company, LLC

Description: Hurricane Surcharge Refund Report to be effective N/A.

Filed Date: 5/10/12

Accession Number: 20120510-5084

Comments Due: 5 p.m. ET 5/22/12

Docket Numbers: RP12-636-001

Applicants: Gulf Crossing Pipeline Company LLC

Description: Compliance Filing in Docket No. RP12-636-000 to be effective 6/1/2012

Filed Date: 5/10/12

Accession Number: 20120510-5022

Comments Due: 5 p.m. ET 5/22/12

Docket Numbers: RP99-106-018

Applicants: TransColorado Gas Transmission Company LLC

Description: Revenue Sharing Report of TransColorado Gas Transmission Company LLC in Docket No. RP99-106.

Filed Date: 5/10/12

Accession Number: 20120510-5097

Comments Due: 5 p.m. ET 5/22/12

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 14, 2012.
Nathaniel J. Davis, Sr.
Deputy Secretary

[FR Doc. 2012-12186 Filed 5-18-12; 8:45 am]

BILLING CODE 6717-01-P